DEPARTMENT OF VETERANS AFFAIRS

38 CFR Part 17

RIN 2900-AD48

Operation of Child Care Centers at VA Facilities

AGENCY: Department of Veterans Affairs.

ACTION: Withdrawal of proposed rule.

SUMMARY: The Department of Veterans Affairs published a proposed rule to amend its regulations regarding the Operation of Child Care Centers at VA Facilities. The proposed rule and the comments we received have been superseded by events. Accordingly, this document hereby withdraws the proposed rule.

FOR FURTHER INFORMATION CONTACT: Renee Bruce, National Child Care Program Manager, telephone number 410-605-7388, VA Maryland Health Care System, 10 N. Greene Street, Baltimore, Maryland 21201.

SUPPLEMENTARY INFORMATION: In a proposed rule published in the Federal Register on December 27, 1989 (54 FR 53078), VA proposed to amend its regulations regarding the Operation of Child Care Centers at VA Facilities. The proposed rule and comments VA received have been superseded by events.

The child care needs of VA employees are being met through the provision of child care services by non-VA entities, at, or near VA facilities. While VA does not have any authority other than Veterans' Canteen Service (VCS) statute, to provide child care services directly, VA facilities can provide, free-of-charge, space and services to privately operated child care centers pursuant to the Trible Amendment and VA leasing authority. See 38 U.S.C. 7809, 8122(a), 40 U.S.C. 490b. Use of the Trible Amendment and VA leasing authority has resulted in the existence of dozens of child care centers serving VA employees.

Further, we understand that VCS does not, nor does it intend to, operate any child care centers, directly or by contract. Thus, VA is withdrawing the proposed rule.

List of Subjects in 38 CFR Part 17

Administrative practice and procedure, Alcohol abuse, Alcoholism, Claims, Day care, Dental health, Drug abuse, Foreign relations, Government contacts, Grants program-health, Health care, Health facilities, Health professions, Health records, Homeless, Medical and dental schools, Medical devices, Medical research, Mental health programs, Nursing homes, Philippines, Reporting and recordkeeping requirements, Scholarships and fellowships, Travel and Transportation expenses, Veterans.

Approved: July 5, 2002.
Anthony J. Principi,
Secretary of Veterans Affairs.

[FR Doc. 02-19175 Filed 7-29-02; 8:45 am]

BILLING CODE 8320-01-P